DEPARTMENT OF LABOR

Office of the Secretary

Submission for OMB Review: Comment Request

January 16, 2007.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained at http://www.reginfo.gov/public/do/PRAMain, or contact Ira Mills on 202-693-4122 (this is not a toll-free number) or E-Mail: Mills.Ira@dol.gov.

Comments should be sent to the Office of Information and Regulatory Affairs, Attn: OMB Desk Officer for U.S. Department of Labor/Employment and Training Administration (ETA), Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Worker Profiling and Reemployment Services Activity and Worker Profiling and Reemployment Services Outcomes.

OMB Number: 1205-0353.

Frequency: Quarterly.

Affected Public: State Governments.

Type of Response: Reporting.

Number of Respondents: 53.

Annual Responses: 212.

Average Response Time: 30 minutes.

Total Annual Burden Hours: 106 hours.

Total Annualized Capital/Startup Costs: 0.

Total Annual Costs (operating/maintaining systems or purchasing services): 0.

Description: The Worker Profiling and Reemployment Services (WPRS) program allows for the targeting of reemployment services to those most in need of services. The ETA 9048 and ETA 9049 are the only means of tracking the activities in the WPRS program. The ETA 9048 reports on the numbers and flows of claimants at the various stages of the WPRS system from initial profiling through the completion of specific reemployment services. This allows for evaluation and monitoring of the program. The ETA 9049 gives a limited, but inexpensive, look at the reemployment experience of profiled claimants who were referred to services by examining the state's existing wage record files to see in which quarter the referred individuals became employed, what wages they earned and whether they have changed industries.

Ira L. Mills,
Departmental Clearance Officer.

[FR Doc. E7-757 Filed 1-19-07; 8:45 am]

BILLING CODE 4510-30-P